DEPARTMENT OF ENERGY

Federal Energy Regulatory Commission

[CP10-59-000]

Golden Pass Pipeline LLC; Notice of Request Under Blanket Authorization

February 17, 2010.

Take notice that on October 29, 2009, Golden Pass Pipeline, LLC (GPPL), filed in Docket No. CP10-59-000, a prior notice request pursuant to Sections 157.205, 157.208 and 157.211 of the Commission's regulations under the Natural Gas Act (NGA). GPPL seeks authorization to construct and operate facilities to receive natural gas from and deliver natural gas to Golden Triangle Storage, Inc. (GTS), in Jefferson County, Texas, and proposes to perform these activities under its blanket certificate issued July 6, 2005, in Docket No. CP04-401-000 [112 FERC ¶ 61,041 (2005)].

Specifically, GPPL proposes to construct and operate metering facilities at a new interconnect between its system and the GTS system to provide GPPL with a bidirectional flow capability of 250 MMcf/d and a design minimum flow rate of approximately 20 MMcf/d., and include three 8-inch meter runs, with one of the meters serving as a fully operational reference spare meter, all as more fully set forth in the application which is on file with the Commission and open to public inspection.

The interconnection facilities comprise a 16-inch tee and valve on GPPL's 42-inch mainline facilities. GTS will construct the meter station, appurtenant facilities and the 16-inch pipeline connecting the tap and the meter. GPPL will operate these facilities. GPPL will also provide, own and operate telecommunication equipment at a concrete pad at the site. All other interconnection facilities will be owned and operated by GTS.

GPPL estimates the cost of the project to be $710,000. GTS has agreed to reimburse GPPL for its actual direct and indirect costs, including direct and allocated overhead, incurred in designing and installing the proposed facilities.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application may be directed to Irene T. Garcia, Exxon/Mobil Development Company, 17001 Northchase Drive, Houston, Texas, 77060, or call (281) 654-1129.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Comment Date 5 p.m. Eastern Standard Time April 19, 2010.
Kimberly D. Bose,
Secretary.

[FR Doc. 2010-3618 Filed 2-23-10; 8:45 am]

BILLING CODE 6717-01-P